ENVIRONMENTAL PROTECTION AGENCY

[FRL-10895-01-OAR]

Announcing Upcoming Meeting of Mobile Sources Technical Review Subcommittee

AGENCY: Environmental Protection Agency (EPA).

ACTION: Notice.

SUMMARY: Pursuant to the Federal Advisory Committee Act, the Environmental Protection Agency (EPA) announces an upcoming meeting of the Mobile Sources Technical Review Subcommittee (MSTRS), which is a subcommittee under the Clean Air Act Advisory Committee (CAAAC). This is a hybrid (both in-person and virtual) meeting and open to the public. The meeting will include discussion of current topics and presentations about activities being conducted by EPA's Office of Transportation and Air Quality. MSTRS listserv subscribers will receive notification when the agenda is available on the Subcommittee website. To subscribe to the MSTRS listserv, send an email to MSTRS@epa.gov.

DATES: EPA will hold a hybrid (both in-person and virtual) public meeting on Thursday, May 11, 2023 from 10:00 a.m. to 4:30 p.m. Eastern Daylight Time (EDT). Registration for in-person participants begins at 9:30 a.m. Please monitor the website https://www.epa.gov/caaac/mobile-sources-technical-review-subcommittee-mstrs-caaac for any changes to meeting logistics. The final meeting agenda will be posted on the website.

ADDRESSES: The meeting is currently scheduled to be held virtually and at EPA's National Vehicle and Fuel Emissions Laboratory, 2565 Plymouth Rd., Ann Arbor, MI 48105. However, this date and location are subject to change and interested parties should monitor the Subcommittee website (above) for the latest logistical information. For information on the public meeting or to register to attend, please contact MSTRS@epa.gov.

FOR FURTHER INFORMATION CONTACT: Further information concerning this public meeting and general information concerning the MSTRS can be found at: https://www.epa.gov/caaac/mobile-sources-technical-review-subcommittee-mstrs-caaac. Other MSTRS inquiries can be directed to Jessica Mroz, the Designated Federal Officer for MSTRS, Office of Transportation and Air Quality, at 202-564-1094 or mroz.jessica@epa.gov.

SUPPLEMENTARY INFORMATION: During the meeting, the Subcommittee may also hear progress reports from its workgroups as well as updates and announcements on Office of Transportation and Air Quality activities of general interest to attendees.

Participation in hyrbid public meetings. The hybrid (both in-person and virtual) public meeting will provide interested parties the opportunity to participate in this Federal Advisory Committee meeting.

For individuals with disabilities: For information on access or services for individuals with disabilities, please email MSTRS@epa.gov. To request accommodate of a disability, please email MSTRS@epa.gov, preferably at least 10 business days prior to the meeting, to give EPA as much time as possible to process your request.

EPA is asking all meeting attendees, even those who do not intend to speak, to register for the meeting by sending an email to the address listed in the FOR FURTHER INFORMATION CONTACT section above, by Thursday, April 27, 2023. This will help EPA ensure that sufficient participation capacity will be available.

Please note that any updates made to any aspect of the meeting logistics, including potential additional sessions, will be posted online at https://www.epa.gov/caaac/mobile-sources-technical-review-subcommittee-mstrs-caaac. While EPA expects the meeting to go forward as set forth above, please monitor the website for any updates.

Jessica Mroz,
Designated Federal Officer, Mobile Source Technical Review Subcommittee, Office of Transportation and Air Quality.

[FR Doc. 2023-07916 Filed 4-13-23; 8:45 am]

BILLING CODE 6560-50-P